DEPARTMENT OF LABOR

Employment and Training Administration

[TA-W-39,917]

Curtron Curtains, Inc., Curtron Manufacturing, Travelers Rest, SC; Amended Certification Regarding Eligibility To Apply for Worker Adjustment Assistance

In accordance with Section 223 of the Trade Act of 1974 (19 USC 2273) the Department of Labor issued a Certification of Eligibility to Apply for Worker Adjustment Assistance on February 7, 2002, applicable to workers of Curtron Curtains, Inc., located in Travelers Rest, South Carolina. The notice was published in the Federal Register on February 28, 2002 (67 FR 9327).

At the request of the State agency, the Department reviewed the certification for workers of the subject firm. New information provided by the State shows that production workers wages at the Travelers Rest, South Carolina plant are reported to the Unemployment Insurance (UI) tax account for Curtron Manufacturing. Wages for workers at the plant engaged in the distribution of curtains produced at the same plant are reported to the UI tax account for Curtron Curtains, Inc.

The intent of the Department's certification is to provide coverage to all workers of the firm adversely affected by increased imports. Therefore, the Department is amending the certification to include workers of the firm whose wages are reported to the UI tax account for Curtron Manufacturing, Travelers Rest, South Carolina.

The amended notice applicable to TA-W-39,917 is hereby issued as follows:

All workers of Curtron Curtains, Inc., and Curtron Manufacturing, Travelers Rest, South Carolina, engaged in employment related to the production of curtains, who became totally or partially separated from employment on or after August 10, 2000, through February 7, 2004, are eligible to apply for adjustment assistance under Section 223 of the Trade Act of 1974.

Signed at Washington, DC, this 3rd day of July, 2002.
Linda G. Poole,
Certifying Officer, Division of Trade Adjustment Assistance.

[FR Doc. 02-18067 Filed 7-17-02; 8:45 am]

BILLING CODE 4510-30-P